FEDERAL MARITIME COMMISSION

Sunshine Act Meeting

Agency Holding The Meeting: Federal Maritime Commission.

TIME AND DATE: December 14, 2016; 10:00 a.m.

PLACE: 800 N. Capitol Street NW., First Floor Hearing Room, Washington, DC.

STATUS: The first portion of the meeting will be held in Open Session; the second in Closed Session.

MATTERS TO BE CONSIDERED:

Open Session

1. Briefing by Commissioner Dye on Supply Chain Innovation Teams

2. Docket No. 16-08: Final Rule on Presentation of Evidence in Commission Adjudications

Closed Session

1. THE Alliance Agreement, FMC Agreement No. 012439

CONTACT PERSON FOR MORE INFORMATION: Rachel E. Dickon, Assistant Secretary, (202) 523-5725.

Rachel E. Dickon,
Assistant Secretary.

[FR Doc. 2016-29779 Filed 12-7-16; 4:15 pm]

BILLING CODE 6731-AA-P